SOCIAL SECURITY ADMINISTRATION

Statement of Organization, Functions and Delegations of Authority

This statement amends Part S of the Statement of the Organization, Functions and Delegations of Authority which covers the Social Security Administration (SSA). Notice is given that Chapter S8 for the Office of the Inspector General (OIG) is being amended to reflect the retitling of five Divisions and the amendment to some of their functions. The new material and changes are as follows:

Section S8C.10 The Office of Audit—(Organization)

Retitle:

E. The Operational Audit Division (OAD)(S8CE) to the Southern Audit Division (SAD).

F. The Disability Program Audit Division (DPAD)(S8CG) to the Northern Audit Division (NAD).

G. The Program Benefits Audit Division (PBAD)(S8CH)to the Western Audit Division (WAD).

H. The Systems Audit Division (SAD)(S8CK) to the Data Analysis and Technology Audit Division (DATAD).

I. The Financial Management and Performance Monitoring Audit Division (FMPMAD)(S8CL) to the Financial Audit Division (FAD).

Section S8C.20 The Office Audit—(Functions)

Retitle and Amend in its entirety:

E. The Operational Audit Division (OAD)(S8CE) to the Southern Audit Division (SAD). Plans, and conducts, oversees and reports on the results of audits related to the SSA's Retirement, Survivors, and Disability Insurance Program; and the Supplemental Security Income Program. Specific audit responsibilities may include: Enumeration, Retirement, Survivors and Disability Insurance Initial Claims and Postentitlement Operations; Earnings Operations; Supplemental Security Income Initial Claims and Postentitlement Operations; Field Office Operations; Hearings and Appeals; Disability Determination Services; Representative Payees, Performance Measures; and various general management and administrative issues related to, but not limited to facilities management, personnel, payroll, and budgeting.

F. The Disability Program Audit Division (DPAD)(S8CG) to the Northern Audit Division (NAD). Plans, conducts, oversees and reports on the results of audits related to SSA's Retirement, Survivors and Disability Insurance Program; and the Supplemental Security Income Program. Specific audit responsibilities may include: Enumeration, Retirement, Survivors and Disability Insurance Initial Claims and Postentitlement Operations; Earnings Operations; Supplemental Security Income Initial Claims and Postentitlement Operations; Field Office Operations; Hearings and Appeals; Disability Determination Services; Representative Payees, Performance Measures; and various general management and administrative issues related to, but not limited to, facilities management, personnel Payroll, and budgeting.

G. The Program Benefits Audit Division (PBAD)(S8CH) to the Western Audit Division (WAD). Plans, conducts, oversees and reports on the results of audits related to SSA's Retirement, Survivors and Disability Insurance Program; and the Supplemental Security Income Program. Specific audit responsibilities may include: Enumeration, Retirement, Survivors and Disability Insurance Initial Claims and Postentitlement Operations; Earnings Operations; Supplemental Security Income Initial Claims and Postentitlement Operations; Field Office Operations; Hearings and Appeals; Disability Determination Services; Representative Payees, Performance Measures; and various general Management and administrative issues related to, but not limited to, facilities management, personnel, payroll, and budgeting.

Retitle:

H. The Systems Audit Division (SAD)(S8CK)to the Data Analysis and Technology Audit Division (DATAD).

Retitle and Add:

I. The Financial Management and Performance Monitoring Audit Division (FMPMAD)(S8CL) to the Financial Audit Division (FAD).

4. The division may also perform various financial related audits of SSA's Retirement, Survivors and Disability Insurance Program; and the Supplemental Security Income Program. Specific audit responsibilities may include: Enumeration, Retirement, Survivors and Disability Insurance Initial Claims and Postentitlement Operations; Earnings Operations; Supplemental Security Income Initial Claims and Postentitlement Operations; Field Office Operations; Hearings and Appeals; Disability Determination Services and Representative Payees.

Dated: December 10, 2001.
James G. Huse,
Inspector General for SSA.

[FR Doc. 01-31455 Filed 12-20-01; 8:45 am]

BILLING CODE 4191-02-U